DEPARTMENT OF HOUSING AND URBAN DEVELOPMENT

[Docket No. FR-4837-D-59]

Amendment, Consolidated Delegation of Authority for the Office of Community Planning and Development

AGENCY: Office of the Secretary, HUD.

ACTION: Amendment to Consolidated Delegation of Authority for the Office of Community Planning and Development.

SUMMARY: This notice amends the existing Consolidated Delegation of Authority for Community Planning and Development to add the Renewal Communities, urban Empowerment Zones, and urban Enterprise Communities (RC/EZ/EC) Initiative and Technical Assistance Awards to the list of programs delegated to the Assistant Secretary for Community Planning and Development and the General Deputy Assistant Secretary for Community Planning and Development. This amendment also authorizes the General Deputy Assistant Secretary to further redelegate any of the authority delegated under the Consolidated Delegation of Authority, as amended.

DATES: Effective Date: March 27, 2006.

FOR FURTHER INFORMATION CONTACT: Karen Daly, Director of Policy Development and Coordination, Office of Community Planning and Development, Department of Housing and Urban Development, 451 Seventh Street, SW., Room 7240, Washington, DC 20410-7000, (202) 708-1817. This is not a toll-free number. For those needing assistance, this number may be accessed via TTY by calling the Federal Information Relay Service at (800) 877-8339.

SUPPLEMENTARY INFORMATION: On September 16, 2003 (68 FR 54238), the Department published a Consolidated Delegation of Authority for Community Planning and Development programs. This notice amends the existing Consolidated Delegation of Authority for Community Planning and Development by adding the Renewal Communities, urban Empowerment Zones, and urban Enterprise Communities (RC/EZ/EC) Initiative and Technical Assistance Awards to the list of programs delegated to the Assistant Secretary and the General Deputy Assistant Secretary for Community Planning and Development. The Consolidated Delegation authorized the Assistant Secretary to further redelegate any authority included therein, excluding those authorities expressly excepted. This amendment similarly authorizes the General Deputy Assistant Secretary to further redelegate any delegated authority, excluding those expressly excepted. This notice also clarifies the authority excepted from the Consolidated Delegation and updates the list of prior delegations of authority superseded by the Consolidated Delegation. Accordingly, the Secretary amends the Consolidated Delegation of Authority for CPD programs at 68 FR 54238 (September 16, 2003), as follows:

Section A. Amendment to Consolidated Delegation of Authority

At Section A of 68 FR 54238-9 (September 16, 2003), under the heading entitled “Authority”:

1. Paragraph 6 is amended to read as follows:

6. The Renewal Communities, urban Empowerment Zones, and urban Enterprise Communities (RC/EZ/EC) Initiative as authorized under title 26, subtitle A, chapter 1, subchapter U of the Internal Revenue Code, as amended, 26 U.S.C. 1391 et seq. with respect to urban Empowerment Zones and urban Enterprise Communities and title 26, subtitle A, chapter 1, subchapter X of the Internal Revenue Code, as amended, 26 U.S.C. 1400E et seq. with respect to Renewal Communities; and grants for urban Empowerment Zones as provided for in annual HUD appropriations acts (e.g., Consolidated Appropriations Resolution, Fiscal Year 2003, Pub. L. 108-7, 117 Stat. 11, approved February 20, 2003).

2. After paragraph 19(f), a new paragraph is added to the list of programs under which authority is delegated as follows:

20. Technical Assistance Awards as authorized under Section 107(b)(4) of the Housing and Community Development Act of 1974, 42 U.S.C. 5307; Sections 233 and 242 of the Cranston-Gonzalez National Affordable Housing Act, 42 U.S.C. 12773 and 12781-83; Section 423 of the Stuart B. McKinney Homeless Assistance Act, 42 U.S.C. 11383 et seq.; Title IV of the Cranston-Gonzalez National Affordable Housing Act, as amended by the Housing and Community Development Act of 1992, 42 U.S.C. 12899 et seq.; and as provided for in annual HUD appropriations acts (e.g., Consolidated Appropriations Resolution, Fiscal Year 2003, Pub. L. 108-7, 117 Stat. 11, approved February 20, 2003).

Section B. Amendment to Authority Excepted

At Section B of 68 FR 54238 (September 16, 2003), under the heading entitled “Authority Excepted,” paragraph 2.b. is amended as follows:

b. The power to administer the section 107 programs listed in the Delegation of Authority to the Assistant Secretary for Policy Development and Research at 68 FR 42749 (July 18, 2003);

Section C. Amendment to Authority to Redelegate

At Section C of 68 FR 54238 (September 16, 2003), under the heading entitled “Authority to Redelegate,” is amended to read as follows:

The Assistant Secretary for Community Planning and Development and the General Deputy Assistant Secretary for Community Planning and Development are authorized to redelegate to employees of the Department any of the authority delegated under Section A, excluding the authority excepted under Section B, the authority to issue or waive rules and regulations.

Section D. Amendment to Delegations Superseded

At Section D of 68 FR 54238 (September 16, 2003), under the heading entitled “Delegations Superseded,” after paragraph 19, two new paragraphs are added to the list of delegations superseded as follows:

20. Delegation of Authority from the Secretary to the Assistant Secretary for Community Planning and Development, published on January 26, 1998 (63 FR 3761);

21. Delegation of Authority from the Secretary to the Assistant Secretary for Community Planning and Development, published on January 11, 1999 (64 FR 1637).

Section E. Actions Ratified

The Secretary hereby ratifies all actions previously taken by the Assistant Secretary for Community Planning and Development and the General Deputy Assistant Secretary for Community Planning and Development, with respect to the programs and matters listed in Section A.

Authority: Section 7(d), Department of Housing and Urban Development Act, 42 U.S.C. 3535(d).

Dated: March 27, 2006.
Alphonso Jackson,
Secretary.

[FR Doc. E6-6246 Filed 4-25-06; 8:45 am]

BILLING CODE 4210-67-P